DEPARTMENT OF HOMELAND SECURITY

Federal Emergency Management Agency

[Docket ID FEMA-2012-0003; Internal Agency Docket No. FEMA-B-1276]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 18, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1276, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
La Paz County, Arizona, and Incorporated Areas
Maps Available for Inspection Online at: http://www.r9map.org/Pages/Arizona.aspx?choState=Arizona
Unincorporated Areas of La Paz County | La Paz County Planning and Zoning Department, 1112 Joshua Avenue, Suite 202, Parker, AZ 85344.
Clay County, Florida, and Incorporated Areas
Maps Available for Inspection Online at: http://www.bakeraecom.com/index.php/florida/clay/
City of Green Cove Springs | City Hall, 321 Walnut Street, Green Cove Springs, FL 32043.
City of Keystone Heights | City Hall, 555 South Lawrence Boulevard, Keystone Heights, FL 32656.
Town of Orange Park | Town Hall, Economic and Community Development Department, 2042 Park Avenue, Orange Park, FL 32073.
Town of Penney Farms | Town Hall, 4100 Clark Avenue, Penney Farms, FL 32079.
Unincorporated Areas of Clay County | Clay County Public Works Department, 5 Esplande Avenue, Green Cove Springs, FL 32043.
Carroll County, Indiana, and Incorporated Areas
Maps Available for Inspection Online at: http://www.in.gov/dnr/water/6401.htm
City of Delphi | Carroll County Area Plan Commission, Carroll County Courthouse, 101 West Main Street, Delphi, IN 46923.
Town of Burlington | Carroll County Area Plan Commission, Carroll County Courthouse, 101 West Main Street, Delphi, IN 46923.
Town of Camden | Town Office, 153 West Main Street, Camden, IN 46917.
Town of Flora | Town Hall, 27 West Main Street, Flora, IN 46929.
Unincorporated Areas of Carroll County | Carroll County Area Plan Commission, Carroll County Courthouse, 101 West Main Street, Delphi, IN 46923.
Hancock County, Indiana, and Incorporated Area
Maps Available for Inspection Online at: http://www.in.gov/dnr/water/7339.htm
Town of Cumberland | Municipal Building, 11501 East Washington Street, Cumberland, IN 46229.
Town of Fortville | Municipal Building, 714 East Broadway, Fortville, IN 46040.
Unincorporated Areas of Hancock County | Hancock County Annex, 111 South American Legion Place, Greenfield, IN 46140.
Jasper County, Indiana, and Incorporated Areas
Maps Available for Inspection Online at: http://www.in.gov/dnr/water/6602.htm
City of Rensselaer | City Hall, Building Department, 124 South Van Rensselaer Street, Rensselaer, IN 47978.
Town of DeMotte | Town Hall, 112 Carnation Street SE., DeMotte, IN 46310.
Town of Remington | Town Hall, 24 South Indiana Street, Remington, IN 47977.
Town of Wheatfield | Town Hall, 170 South Grace Street, Wheatfield, IN 46392.
Unincorporated Areas of Jasper County | Jasper County Planning and Development, Jasper County Courthouse, 115 West Washington Street, Suite 109, Rensselaer, IN 47978.
Brazos County, Texas, and Incorporated Areas
Maps Available for Inspection Online at: http://riskmap6.com/Community.aspx?cid=270&sid=5
City of Bryan | City Hall, 300 South Texas Avenue, Bryan, TX 77803.
City of College Station | City Hall, 1101 Texas Avenue, College Station, TX 77840.
Unincorporated Areas of Brazos County | Brazos County Road and Bridge Department, 2617 Highway 21 West, Bryan, TX 77803.
Dallas County, Texas, and Incorporated Areas
Maps Available for Inspection Online at: http://riskmap6.com/Community.aspx?cid=306&sid=5
City of Dallas | Department of Public Works, 320 East Jefferson Boulevard, Room 321, Dallas, TX 75203.
City of Grand Prairie | City Development Center, 206 West Church Street, Grand Prairie, TX 75050.
Sheridan County, Wyoming, and Incorporated Areas
Maps Available for Inspection Online at: http://www.bakeraecom.com/index.php/wyoming/sheridan-3/
Town of Dayton | Public Works Office, 608 Broadway, Dayton, WY 82836.
Town of Ranchester | 145 Coffeen Street, Ranchester, WY 82839.

(Catalog of Federal Domestic Assistance No. 97.022, “Flood Insurance.”)

Dated: November 28, 2012.
James A. Walke,
Acting Deputy Associate Administrator for Mitigation, Department of Homeland Security, Federal Emergency Management Agency.

[FR Doc. 2012-30262 Filed 12-17-12; 8:45 am]

BILLING CODE 9110-12-P